DEPARTMENT OF DEFENSE

Office of the Secretary

[Docket ID: DoD-2012-OS-0164]

Privacy Act of 1974; System of Records

AGENCY: Defense Contract Audit Agency, DoD.

ACTION: Notice to delete a Systems of Records.

SUMMARY: The Defense Contract Audit Agency (DCAA) is deleting a system of records in its existing inventory of record systems subject to the Privacy Act of 1974 (5 U.S.C. 552a), as amended.

DATES: This proposed actions will be effective on January 31, 2013 unless comments are received which result in a contrary determination. Comments will be accepted on or before January 30, 2013.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Defense Contract Audit Agency Privacy Management Analyst, Information and Records Management Branch, 8725 John J. Kingman Road, Suite 2135, Fort Belvoir, VA 22060-6219 or at (703) 767-1022.

SUPPLEMENTARY INFORMATION: The Defense Contract Audit Agency (DCAA) systems of records notices subject to the Privacy Act of 1974 (5 U.S.C. 552a), as amended, have been published in the Federal Register and are available from the address in FOR FURTHER INFORMATION CONTACT.

The proposed deletion is not within the purview of subsection (r) of the Privacy Act of 1974 (5 U.S.C. 552a), as amended, which requires the submission of new or altered systems reports.

Dated: December 13, 2012.
Aaron Siegel,
Alternate OSD Federal Register Liaison Officer, Department of Defense.

RDCAA 367.5

System name

Employee Assistance Program (EAP) Counseling Records (November 20, 1997, 62 FR 62003).

Reason

The Defense Contract Audit Agency contracts our Employee Assistance Program (EAP) with the United States Department of Health & Human Services (HHS). HHS has a Systems of Records Notice 09-90-0010 that covers EAP records. Because EAP records are no longer maintained by the Agency, system notice RDCAA 367.5 is not needed and should be deleted.

[FR Doc. 2012-31354 Filed 12-28-12; 8:45 am]

BILLING CODE 5001-06-P